DEPARTMENT OF COMMERCE

National Oceanic and Atmospheric Administration

Proposed Information Collection; Comment Request; Gear-Marking Requirement for Atlantic Large Whale Take Reduction Plan

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before May 11, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Kate Swails, (978) 282-8481 or Kate.Swails@noaa.gov.

SUPPLEMENTARY INFORMATION:

I. Abstract

This request is for extension of a currently approved information collection.

The purpose of this collection of information is to enable National Marine Fisheries Service (NMFS) to reduce the serious injury and mortality of large whales, especially right whales, due to incidental entanglement in the United States (U.S.) commercial fishing gear. Any persons setting trap/pot of gillnet gear in some areas of the Atlantic Ocean are required to paint or otherwise mark their gear with one or two color codes, designating the type of gear and area where the gear is set. The surface buoys of this gear need to be marked to identify the vessel or fishery. These marking requirements apply in the various management areas under the Atlantic Large Whale Take Reduction Plan (ALWTRP), developed under the authority of the Marine Mammal Protection Act.

The goals of this collection of information are to obtain more information on where large whales are being entangled and on what type of gear is responsible for the entanglement. This information will allow NMFS to focus further risk reduction measures in certain areas or fisheries, where needed, to meet the goals of the ALWTRP. Also, fisheries observers can provide information to managers on whether regulations need to be modified to address compliance or safety issues.

II. Method of Collection

Information collected is in the form of gear marking.

III. Data

OMB Control Number: 0648-0364.

Form Number: None.

Type of Review: Regular submission (extension of a currently approved collection).

Affected Public: Business or other for-profit organizations and individuals or households.

Estimated Number of Respondents: 4,270.

Estimated Time per Response: Gear marking per vessel, 2 hours and 25 minutes; trip notification to observers, 2 minutes.

Estimated Total Annual Burden Hours: 10,235.

Estimated Total Annual Cost to Public: $6,755.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: March 6, 2012.
Gwellnar Banks,
Management Analyst, Office of the Chief Information Officer.

[FR Doc. 2012-5800 Filed 3-9-12; 8:45 am]

BILLING CODE 3510-22-P